DEPARTMENT OF HEALTH AND HUMAN SERVICES

Health Resources and Services Administration

Agency Information Collection Activities: Proposed Collection: Public Comment Request; Information Collection Request Title: Bureau of Health Workforce Performance Data Collection, OMB No. 0906-0086-Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 9, 2026.

ADDRESSES: Submit your comments to paperwork@hrsa.gov or mail the HRSA Information Collection Clearance Officer, Room 13N82, 5600 Fishers Lane, Rockville, MD 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the information request collection title for reference.

Information Collection Request Title: Bureau of Health Workforce Performance Data Collection, OMB No. 0906-0086-Revision.

Abstract: Over 50 Bureau of Health Workforce programs award grants to health professions schools and training programs across the United States to develop, expand, and enhance training, and to strengthen the distribution of the health workforce. These programs are governed by Titles III, VII, and VIII of the Public Health Service Act. Performance information is collected in the HRSA Performance Report for Grants and Cooperative Agreements. Data collection activities consisting of an annual progress report and an annual performance report satisfy statutory and programmatic requirements for performance measurement and evaluation (including specific Titles III, VII and VIII requirements), as well as the Government Performance and Results Modernization Act of 2010 and the Foundations for Evidence-Based Policymaking Act of 2018 requirements. The performance measures were last revised in 2023 to ensure they addressed programmatic changes, met evolving program management needs, and responded to emerging workforce concerns. Measures were then updated in 2025 to better reflect agency priorities. HRSA will continue with its current performance management strategy and make additional changes that reduce burden, simplify reporting, reflect new legislative or Department of Health and Human Services priorities, and enable longitudinal analysis of program performance. To reduce reporting burden, HRSA will remove four complex interrelated forms and 50 questions that are no longer needed. To simplify reporting on the individual characteristics form, four questions will be consolidated into two. HRSA will also amend four training and employment questions to ensure consistent reporting across forms and key outcomes measures are captured. Additionally, the data collection forms will be revised for compliance with OMB's Statistical Policy Directive No. 15. Lastly, the progress report will be updated to include a new summary information section with five questions to capture outcomes at project closeout.

Need and Proposed Use of the Information: The purpose of the proposed data collection is to continue analysis and reporting of grantee training activities and education, identify details about the practice locations where trainees work after program completion, and report outcomes of funded initiatives. Data collected from these grant programs will also provide a description of the program activities of approximately 1,968 reporting grantees to inform policymakers on the barriers, opportunities, and outcomes involved in health care workforce development. The proposed measures focus on four key outcomes: (1) increasing the workforce supply of well-educated practitioners in needed professions, (2) increasing the number of practitioners that practice in underserved and rural areas, (3) enhancing the quality of education, and (4) supporting educational infrastructure to increase the capacity to train more health professionals in high demand areas.

Likely Respondents: Respondents are grantees of Bureau of Health Workforce health professions grant programs.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Direct Financial Support Program | 602 | 1 | 602 | 2.7 | 1,625.4
Infrastructure Program | 159 | 1 | 159 | 4.1 | 651.9
Multipurpose or Hybrid Program | 1,207 | 1 | 1,207 | 2.8 | 3,379.6
Total | 1,968 |  | 1,968 |  | 5,656.9

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy P. McNulty,
Deputy Director, Executive Secretariat.

[FR Doc. 2026-00104 Filed 1-7-26; 8:45 am]

BILLING CODE 4165-15-P